DEPARTMENT OF THE INTERIOR

Bureau of Land Management

[CACA 49561, LLCAD08000L5101 ER0000LVRWB09B3220]

Notice of Intent To Prepare an Environmental Impact Statement and Amendment to the California Desert Conservation Area Plan for the Lucerne Valley Solar Project; San Bernardino County, CA

AGENCY: Bureau of Land Management, Interior.

ACTION: Notice of intent.

SUMMARY: In compliance with the National Environmental Policy Act of 1969 (NEPA), as amended, and the Federal Land Policy and Management Act of 1976 (FLPMA), as amended, the Bureau of Land Management (BLM) Barstow Field Office, Barstow, California intends to prepare an Environmental Impact Statement (EIS) and by this notice is announcing the beginning of the scoping process to solicit public comments and identify issues. The EIS will analyze the impacts of the Lucerne Valley Solar Plant on public lands in San Bernardino County, California. The project is being proposed by Chevron Energy Solutions (the Applicant). The applicant has requested a right-of-way (ROW) authorization to construct and operate a 45 megawatt solar photovoltaic project and connect it to the existing Southern California Edison 33 kV distribution system. Within the 516-acre solar facility, the project would include a new switchyard, control/maintenance building, and parking area. The EIS will analyze the site-specific impacts to the environment from the proposed grant of the ROW.

DATES: This notice initiates a public participation and scoping period for the EIS of at least 30 days. This scoping period will also be announced through the local news media, newspapers, and BLM's Web page (http://www.blm.gov/ca/st/en/fo/barstow.html). During the public scoping period the BLM will solicit public comment on issues, concerns and opportunities that should be considered in the analysis of the proposed action. The BLM expects to hold two public meetings, one in Lucerne Valley and another in the city of San Bernardino. The meeting in Lucerne Valley will take place on July 29, 2009 at the Lucerne Valley Community Center located at 33187 Highway 247 East, Lucerne Valley, California from 6:30 p.m. to 8:30 p.m. The meeting in San Bernardino will take place on July 30, 2009 at the Family Life Public Enterprise Center, Conference Room 13, located at 1505 West Highland Ave., San Bernardino, California 92411 from 6:30 p.m. to 8:30 p.m. Information about the two meetings has been announced through the local news media, newspapers and BLM Web site (http://www.blm.gov/ca/st/en/fo/barstow.html). Comments on issues, potential impacts, or suggestions for additional alternatives may also be submitted in writing to the address listed below. In order to be included in the Draft EIS, all comments must be received prior to the close of the scoping period or 15 days after the last public meeting, whichever is later. We will provide additional opportunities for public participation upon publication of the Draft EIS.

ADDRESSES: You may submit comments related to the Lucerne Valley Solar Project by any of the following methods:

• Web Site: http://www.blm.gov/ca/st/en/fo/barstow.html.

• E-mail: LucerneSolar@blm.gov.

• Fax: (760) 252-6098.

• Mail: BLM Barstow Field Office, 2601 Barstow Road, Barstow, California 92311.

Documents pertinent to this proposal may be examined at the BLM Barstow Field Office.

FOR FURTHER INFORMATION CONTACT: For further information and/or to have your name added to our mailing list, send requests to: ATTN: Lucerne Valley Solar Project; contact Greg Thomsen, telephone (951) 697-5237; address BLM Barstow Field Office, 2601 Barstow Road, Barstow, California 92311; e-mail LucerneSolar@blm.gov.

SUPPLEMENTARY INFORMATION: Pursuant to Title V of FLPMA, sites associated with power generation or transmission not identified in the BLM's California Desert Conservation Area (CDCA) Plan (1980, as amended) will be considered through the plan amendment process.

Under Federal law, the BLM is responsible for processing requests for rights-of-way to authorize solar projects and other appurtenant facilities on the land it manages. BLM must comply with the requirements of NEPA to ensure that environmental impacts associated with construction, operation, and decommissioning will be identified, analyzed and considered in the application process. This will be accomplished through preparation of a Draft and Final EIS. The BLM will utilize the NEPA commenting process to satisfy the public involvement process for Section 106 of the National Historic Preservation Act (NHPA) (16 U.S.C. 470f) as provided for in 36 CFR 800.2 (d)(3).

This notice announces a period for public scoping of alternatives, issues, impacts and planning criteria associated with this project. In addition, the BLM is requesting the views of other agencies as to the scope and content of the environmental information that is germane to the statutory responsibilities or areas of expertise for those agencies in connection with the proposed project and the analysis of its impacts. Federal, State, and local agencies, as well as individuals or organizations that may be interested or affected by the BLM's decision on this project are invited to participate in the scoping process and, if eligible, may request or be requested by the BLM to participate as a cooperating agency.

The Applicant has applied for a ROW authorization to construct and operate a solar photovoltaic project on public lands. The public lands are managed by the BLM in accordance with the CDCA Plan and the West Mojave Plan, an amendment to the CDCA Plan. The 516-acre project would be built approximately 8 miles east of Lucerne Valley, San Bernardino County, California, at T. 4 N., R. 2 E., Section 19 (NE ¼ SW ¼, S ½ SW ¼, NW ¼ SE ¼, S ½ SE ¼), section 20 (W ½ W ½), section 29 (NW ¼ NW ¼), section 30 (N ½ NE ¼).

The EIS will describe and analyze the proposed project and will include:

(1) Measures to avoid, minimize, or mitigate impacts on the environment;

(2) The “No Action” alternative (no project would be built); and

(3) The “no solar” alternative (lands would be determined unsuitable for one or more types of solar generation).

Through public scoping, BLM will identify various issues, potential impacts, and mitigation measures.

The BLM has identified a potential list of issues that will need to be addressed in this analysis including, but not limited to, social and economic impacts, including impacts to the public from traffic; ground and surface water quantity and quality; plant and animal species including special status species; Tribal and cultural resources; and visual resources. If approved, the solar project on public lands would be authorized in accordance with the FLPMA and Federal regulations at Title 43 Code of Federal Regulations part 2800.

The CDCA Plan (1980, as amended) requires that all power generating facilities be considered through the planning process. Planning criteria for consideration of a CDCA plan amendment to provide for power generation at this site include:

a. The plan amendment will be completed in compliance with FLPMA, NEPA and all other applicable Federal and State laws, Executive orders, and management policies of the BLM;

b. The plan amendment will recognize and conform to previous site-specific planning decisions from BLM regional and bioregional plans;

c. Where existing planning decisions are still valid, those decisions will remain unchanged;

d. The plan amendment and any rights-of-way issued will recognize valid existing rights; and

e. Interagency and Native American Tribal consultations will be conducted in accordance with policy, and will be given due consideration. The planning process will include the consideration of impacts on Indian trust assets, other jurisdictions, and agencies.

You may submit written comments on issues and planning criteria at the public scoping meeting, or you may submit them via e-mail (see ADDRESSES section above). To be most helpful, you should submit comments within 15 days after the public scoping meeting. The BLM will identify issues and will place them into one of three categories:

1. Issues to be resolved in the plan;

2. Issues to be resolved through policy or administrative action; or

3. Issues beyond the scope of this plan.

The BLM will provide an explanation in the plan as to why we placed an issue in category two or three. The public is also encouraged to help identify any management questions and concerns that should be addressed in the plan. The BLM will work collaboratively with interested parties to identify the management decisions that are best suited to local, regional, and national needs and concerns.

Before including your address, phone number, e-mail address, or other personal identifying information in your comment, you should be aware that your entire comment—including your personal identifying information—may be made publicly available at any time. While you can ask us in your comment to withhold your personal identifying information from public review, we cannot guarantee that we will be able to do so.

Tom Pogacnik,
Deputy State Director for Natural Resources, California State Office.

[FR Doc. E9-17571 Filed 7-22-09; 8:45 am]

BILLING CODE 4310-40-P